DEPARTMENT OF ENERGY

Federal Energy Regulatory Commission

[Docket No. CP00-372-001]

TCP Gathering Company; Notice of Tariff Cancellation

August 15, 2000.

Take notice that on August 1, 2000, TCP Gathering Company (TCP), tendered for filing in Docket No. CP00-372-001, an application pursuant to ordering Paragraph C of the Order Approving Abandonment issued July 28, 2000 in Docket No. CP00-372-000, and Section 154.602 of the Commission's regulations, to cancel its FERC Gas Tariff, Original Volume No. 1, effective August 1, 2000.

Any person desiring to protest such filing should file a protest with the Federal Energy Regulatory Commission, 888 First Street, NE., Washington, DC 20426, in accordance with section 385.211 of the Commission's Rules and Regulations. All such protests must be filed on or before August 22, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222) for assistance).

David P. Boergers,
Secretary.

[FR Doc. 00-21153 Filed 8-18-00; 8:45 am]

BILLING CODE 6717-01-M